DEPARTMENT OF THE TREASURY

Submission for OMB Review; Comment Request

July 20, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before August 27, 2007 to be assured of consideration.

Bureau of Public Debt (BPD)

OMB Number: 1535-0122.

Type of Review: Extension.

Title: Voluntary Customer Satisfaction Survey to Implement Executive Order 12862.

Forms: Various.

Description: Voluntary Survey to determine customer satisfaction with the services provided by the Bureau of Public Debt.

Respondents: Individuals or Households.

Estimated Total Burden Hours: 876 hours.

OMB Number: 1535-0069.

Type of Review: Extension.

Title: Treasury Direct Forms.

Forms: 5235, 5236, 5261, 5381, 5178, 5179, 5179-1, 5180, 5181, 5182, 5188, 5189, 5191.

Description: Information collected from the public when they wish to purchase and maintain Treasury Bills, Notes and Bonds.

Respondents: Individuals or Households.

Estimated Total Burden Hours: 47,672 hours.

Clearance Officer: Vicki S. Thorpe, Bureau of the Public Debt, 200 Third Street, Parkersburg, West Virginia 26106, (304) 480-8150.

OMB Reviewer: Alexander T. Hunt, Office of Management and Budget, Room 10235, New Executive Office Building, Washington, DC 20503, (202) 395-7316.

Robert Dahl,
Treasury PRA Clearance Officer.

[FR Doc. E7-14467 Filed 7-25-07; 8:45 am]

BILLING CODE 4810-39-P